DEPARTMENT OF COMMERCE

National Oceanic and Atmospheric Administration

[I.D. 010603C]

Endangered and Threatened Species; Take of Anadromous Fish

AGENCY: National Marine Fisheries Service (NMFS), National Oceanic and Atmospheric Administration (NOAA), Commerce.

ACTION: Notice of availability and request for comment.

SUMMARY: Notice is hereby given that the U.S. Fish and Wildlife Service (USFWS) has submitted 10 Hatchery and Genetic Management Plans (HGMP) pursuant to the protective regulations promulgated for salmon and steelhead in the Columbia River basin listed under the Endangered Species Act of 1973, as amended (ESA). The HGMPs specify the future management of hatchery programs potentially affecting the Lower Columbia River (LCR) chum salmon, LCR chinook salmon, LCR steelhead, Upper Willamette River (UWR) chinook salmon, and Middle Columbia River (MCR) steelhead in the States of Oregon and Washington. This document serves to notify the public of the availability of the HGMPs for review and comment before a final approval or disapproval is made by NMFS.

DATES: Written comments on the draft HGMPs must be received at the appropriate address or fax number (see ADDRESSES) no later than 5 p.m. Pacific standard time on February 13, 2003.

ADDRESSES: Written comments and requests for copies of the draft HGMPs should be addressed to Richard Turner, Sustainable Fisheries Division, Hatchery and Inland Fisheries Branch, 525 N.E. Oregon Street, Suite 510, Portland, OR 97232 or faxed to (503) 872-2737. The documents are also available on the Internet at http://www.nwr.noaa.gov/. Comments will not be accepted if submitted via e-mail or the Internet.

FOR FURTHER INFORMATION CONTACT: Richard Turner, Portland, OR at phone number (503) 736-4737 or e-mail: rich.turner@noaa.gov.

SUPPLEMENTARY INFORMATION: This notice is relevant to the LCR chum salmon (Oncorhynchus keta), LCR chinook salmon (O. tshawytscha), LCR steelhead (O. mykiss), UWR chinook salmon (O. tshawytscha), and MCR steelhead (O. mykiss) Evolutionarily Significant Units (ESU).

Background

The USFWS has submitted to NMFS 10 HGMPs for artificial propagation programs potentially affecting listed adults and juveniles of the LCR chum salmon, LCR chinook salmon, LCR steelhead, UWR chinook salmon, and MCR steelhead ESUs (Table 1). The Little White Salmon/Willard National Fish Hatchery (NFH) Complex rears and releases spring chinook salmon, upriver bright fall chinook salmon, and coho salmon. These programs use hatchery adults that return annually to the Little White Salmon NFH at the mouth of the Little White Salmon River in the state of Washington for broodstock. The spring chinook salmon and coho salmon artificial propagation programs are funded by NMFS through the Mitchell Act, and the upriver bright fall chinook salmon program is funded by the U.S. Army Corps of Engineers as part of the John Day Dam mitigation program.

Table 1. Hatchery and Genetic Management Plans and Lead Management Agencies.
Hatchery and Genetic Management Plan | Lead Agencies
Little White Salmon/Willard NFH Complex Coho Salmon | USFWS
Little White Salmon/Willard NFH Complex Spring Chinook Salmon | USFWS
Little White Salmon/Willard NFH Complex Upriver Bright Fall Chinook Salmon | USFWS
Carson NFH Spring Chinook Salmon | USFWS
Spring Creek NFH Tule Fall Chinook Salmon | USFWS
Eagle Creek NFH Coho Salmon | USFWS
Eagle Creek NFH Winter Steelhead | USFWS
Warm Springs NFH Warm Springs River Spring Chinook Salmon | USFWS
Touchet River Endemic Summer Steelhead | WDFW/USFWS
Walla Walla River Summer Steelhead—Lyons Ferry Hatchery Stock | WDFW/USFWS

The spring chinook salmon program at the Carson NFH rears and releases Carson stock spring chinook salmon into the Wind River in the state of Washington. This program is funded through the Mitchell Act. Spring Creek NFH rears and releases tule fall chinook salmon from the hatchery located on the mainstem Columbia River above Bonneville Dam. This is funded through the Mitchell Act. These Mitchell Act programs are designed and funded to support Tribal Treaty fisheries and non-treaty commercial and recreational fisheries as mitigation for hydro-system development and habitat loss due to the construction and operation of the Federal mainstem dams on the Columbia River. The proposed artificial propagation programs at Little White Salmon/Willard Complex, Carson NFH, and Spring Creek NFH use hatchery returns for broodstock and are not expected to handle salmonid adults that are listed under the ESA.

The Eagle Creek NFH rears and releases coho salmon, and early-run winter steelhead. These programs use hatchery adults that return annually to the Eagle Creek NFH on Eagle Creek, a major tributary to the Clackamas River in Oregon for broodstock. The coho salmon and winter steelhead artificial propagation programs are funded by NMFS through the Mitchell Act.

The Eagle Creek NFH coho salmon program rears and releases early run coho salmon on station at the Eagle Creek NFH. Coho adults that return to the hatchery from September to November are used for broodstock. Enough broodstock is collected to provide for an on-station release of 500,000 smolts annually to support ocean and mainstem commercial fisheries and to provide recreational fishing harvest opportunities in the lower Clackamas River and Eagle Creek. Additional coho broodstock is collected to provide eyed eggs and fingerlings to the Nez Perce Tribe in Idaho for restoration programs in the Clearwater River basin in Idaho and to provide fingerling coho salmon to the Clatsop County Economic Development Commission for development and operation of terminal fisheries in Youngs Bay, Tongue Point, and Blind Slough, Oregon.

The Eagle Creek NFH winter steelhead program rears and releases non-listed early-run winter steelhead on station at the Eagle Creek NFH to support local recreational fisheries. Broodstock for the program is collected from returning hatchery adults that swim into the hatchery from November through March. These Mitchell Act programs are designed and funded to support Tribal Treaty fisheries and non-treaty commercial and recreational fisheries as mitigation for hydro-system development and habitat loss due to the construction and operation of the federal mainstem dams on the Columbia River. The proposed artificial propagation programs at Eagle Creek NFH have the potential to handle up to two adult salmonids that are listed under the ESA when collecting broodstock.

The Warm Springs spring chinook program uses natural and hatchery produced spring chinook salmon that return to the Warm Springs NFH, located on the Warm Springs River (tributary to the Deschutes River in Oregon). These populations are not listed. This program is funded by the USFWS and is operated cooperatively with the Confederated Tribes of the Warm Springs Reservation of Oregon. During broodstock collection activities and during the operation of the fish ladder and trap at the Warm Springs NFH, listed MCR summer steelhead will be handled and released and hatchery steelhead will be collected and removed to prevent non-endemic summer steelhead from spawning naturally with listed summer steelhead.

The purpose of the Touchet River endemic summer steelhead HGMP is to develop an artificial propagation program that uses natural and hatchery produced summer steelhead broodstock that are endemic to the Touchet River, a tributary to the Walla Walla River in Washington. This program is designed to use the locally-adapted broodstock to replace the non-endemic Lyons Ferry State Fish Hatchery summer steelhead program that currently releases hatchery summer steelhead into the Touchet River. This program will collect broodstock from both listed naturally produced steelhead and hatchery produced endemic stock steelhead returning to an adult fish trap on the Touchet River in Dayton, Washington. The adults collected for broodstock will be spawned and released back into the Touchet River and the eggs transferred to the Lyons Ferry State Fish Hatchery for incubation and rearing. All steelhead smolts will be marked and then acclimated at the Dayton Acclimation Ponds prior to release into the Touchet River or will be released directly into the upper Touchet River basin above the Dayton adult fish trap.

The Walla Walla River summer steelhead program uses the Lyons Ferry Hatchery summer steelhead stock to augment recreational fisheries in the lower mainstem Walla Walla and Touchet rivers. Lyons Ferry Hatchery summer steelhead broodstock is collected from hatchery adults returning to the Lyons Ferry Hatchery on the mainstem Snake River in Washington. Releases of hatchery fish from this program have declined in recent years to address ESA concerns and continue to be evaluated for further reductions or modification.

These two programs are operated by the Washington Department of Fish and Wildlife (WDFW) and funded by the USFWS through the Lower Snake River Compensation Plan as mitigation for lost recreational fisheries resulting from the construction and operation of the four Lower Snake River dams.

Impacts on the listed LCR and MCR ESUs are specified in the HGMPs and are expected to be low. A variety of monitoring and evaluation tasks are specified in the HGMPs to assess the contribution of hatchery releases to fisheries and to assess impacts on naturally spawning populations of LCR chum salmon, LCR chinook salmon, LCR steelhead, and MCR steelhead. The USFWS and WDFW will annually review the hatchery operations, smolt releases, and adult returns within the provisions of the HGMPs. The USFWS and WDFW will conduct, at a minimum of every 5 years, a comprehensive review to evaluate the effectiveness of the HGMPs.

As specified in the July 10, 2000, ESA 4(d) rule for salmon and steelhead (65 FR 42422), NMFS may approve an HGMP if it meets criteria set forth in § 223.203 (b)(5)(i)(A) through (K). Prior to final approval of an HGMP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to activities associated with fishery harvest provided that an FMEP has been approved by NMFS to be in accordance with the salmon and steelhead 4(d) rule.

Dated: January 8, 2003.
Phil Williams,
Chief, Endangered Species Division, Office of Protected Resources, National Marine Fisheries Service.

[FR Doc. 03-696 Filed 1-13-03; 8:45 am]

BILLING CODE 3510-22-S